DEPARTMENT OF HOMELAND SECURITY

[Docket Number DHS-2022-0020]

Agency Information Collection Activities: Migrant Protection Protocols (MPP) Disenrollment Request System

AGENCY: Department of Homeland Security (DHS).

ACTION: 5-Day notice and request for comments.

SUMMARY: The Department of Homeland Security, will submit the following Information Collection Request (ICR) to the Office of Management and Budget (OMB) for review and clearance in accordance with the Paperwork Reduction Act of 1995.

DATES: Comments are encouraged and will be accepted until April 26, 2022. This process is conducted in accordance with 5 CFR 1320.1.

ADDRESSES: You may submit comments, identified by docket number Docket #DHS-2022-0020, at:

○ Federal eRulemaking Portal: http://www.regulations.gov. Please follow the instructions for submitting comments.

Instructions: All submissions received must include the agency name and docket number Docket #DHS-2022-0020. All comments received will be posted without change to http://www.regulations.gov, including any personal information provided.

Docket: For access to the docket to read background documents or comments received, go to http://www.regulations.gov.

SUPPLEMENTARY INFORMATION: The Department of Homeland Security (DHS) Headquarters (HQ) Migrant Protection Protocols (MPP) program is a U.S. Government program, initiated in January 2019 pursuant to Section 235(b)(2)(C) of the Immigration and Nationality Act (INA). Under MPP, the United States returns to Mexico certain citizens and nationals of countries in the Western Hemisphere other than Mexico while their U.S. removal proceedings are pending.

On June 1, 2021, the Secretary of Homeland Security determined that MPP should be terminated and issued a memorandum to that effect. On August 13, 2021, however, the U.S. District Court for the Northern District of Texas determined in Texas v. Biden that the June 1, 2021 memo was not issued in compliance with the Administrative Procedure Act and INA and ordered DHS to “enforce and implement MPP in good faith.” See Texas v. Biden, No. 2:21-cv-067, 2021 WL 3603341 (N.D. Tex. Aug. 13, 2021).

On October 29, 2021, after an extensive and comprehensive review, the Secretary of Homeland Security issued a new memorandum terminating MPP, which DHS will implement as soon as practicable after issuance of a final judicial decision to vacate the Texas injunction. Until that time, the Department continues to comply with the Texas injunction requiring good-faith implementation and enforcement of MPP. To carry out the court order requiring good-faith implementation and enforcement of MPP, the Department is proposing a new data collection. To achieve efficiencies and ensure consistency with MPP guidance, DHS seeks to create a public-facing MPP Disenrollment Request website.

All information entered by individuals into the MPP Disenrollment Request System will be used by DHS employees and staff to determine whether, consistent with DHS MPP guidance, an individual should be disenrolled from MPP. Decisions whether to enroll or disenroll individuals from MPP are at DHS's discretion, and the disenrollment request process does not create any obligation or private right of action enforceable in administrative or judicial proceedings. Information submitted will be used to ensure that enrollments are consistent with DHS MPP guidance.

DHS anticipates individual review requests will primarily fall into the following categories:

1. An MPP enrollee believes they meet one of the criteria that should counsel in favor of their exemption and therefore should not have been placed in the program.

2. An MPP enrollee was not given access to a non-refoulement interview and wished to have one.

3. An MPP enrollee has experienced a materially changed circumstance such that they now may meet one of the criteria that should counsel in favor of their exception from MPP or may now be able to establish a reasonable possibility of persecution or torture if they were to receive a non-refoulement interview.

The purpose of the public facing MPP Disenrollment Request website is to provide an avenue for individuals to initiate a request for disenrollment from MPP should they believe they should not be included in the MPP program. The website will also provide additional information to the users as well. Once an individual has provided information, the government will have the ability to determine whether an individual is incorrectly placed in MPP processing. The information to be collected for self-disclosure is listed below.

Submission Information

Attorney or Representative Email

Attorney or Representative Name

Attorney or Representative Phone Number

Attorney or Representative Country Code

A #Number

Best Phone Number

E-mail Address

First, Middle, and Last Name

Date of Birth

Country of Birth

County of Citizen Citizenship

Where are you (MPP enrolled person) located now? (Country, City, State)

Preferred Language

Reason for MPP review

Preparer Name

Preparer Phone Number

Preparer Email

Preparer Relationship to Enrollee

DHS will launch a public-facing website on DHS.gov for MPP enrollees or representatives acting on their behalf to submit requests. The information on the application will include instructions for submission. Information about the portal will be made available via a tear sheet given to enrollees at the time they are enrolled in MPP. The MPP Disenrollment Request system URL (engage.dhs.gov/mpp) will also be searchable on the DHS.gov website.

The public-facing website, which is being developed with assistance from the Department of Homeland Security Office of the Chief Information Officer (OCIO), will employ various cloud-based services (e.g., ServiceNow15 and Akamai16 for cloud security and content delivery) to effectively and efficiently manage the receipt, creation, assignment, tracking, and storage of the self-disclosure of the necessary information to start the MPP Disenrollment Request process. The website is hosted in the Federal Risk and Authorization Management Program (FedRAMP)-certified cloud and provides accessibility and functionality restrictions to define specific user roles through its ServiceNow infrastructure. Each user role has defined and limited access authority to view and edit data sets by Office of the Chief Information Officer master administrators.

While the MPP Disenrollment Request system is under development, enrollees may submit their request for review via email at MPPRequest@hq.dhs. With the roll out of the MPP Disenrollment Request application, the email request process will be closed. This information collection does not have an impact on small businesses or other small entities.

The lack of a public-facing platform to initiate requests for disenrollment from MPP could adversely impact DHS's ability to ensure that enrollments in MPP are consistent with DHS guidance and to timely respond to individual requests for disenrollment from MPP. In addition, the lack of a public-facing platform would reduce DHS's ability to systematically track and monitor these requests.

A new Privacy Impact Assessment is in process titled “Migrant Protection Protocols (MPP) Case Request System.” Upon submission of the full 3-year approval, the PIA will be completed. The system is covered by an existing SORN: DHS/USCIS/ICE/CBP-001 Alien File, Index, and National File Tracking System of Records; and DHS/USCIS-007 Benefits Information System.

This is a new information collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: Migrant Protection Protocols (MPP) Disenrollment Request System.

OMB Number: 1601-NEW.

Frequency: Annually.

Affected Public: Public.

Number of Respondents: 5,000.

Estimated Time per Respondent: 20 Minutes.

Total Burden Hours: 1,667.

Robert Dorr,
Executive Director, Business Management Directorate.

[FR Doc. 2022-08508 Filed 4-20-22; 8:45 am]

BILLING CODE 9112-FL-P